NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW., Washington, DC 20594-0001, (202) 314-6233.

SUPPLEMENTARY INFORMATION: Section 4314(c)(1) through (5) of Title 5, United States Code requires each agency to establish, in accordance with regulations prescribed by the Office of Personnel Management, one or more SES Performance Review Boards. The board reviews and evaluates the initial appraisal of a senior executive's performance by the supervisor and considers recommendations to the appointing authority regarding the performance of the senior executive.

The following have been designated as members of the Performance Review Board of the National Transportation Safety Board:

The Honorable Christopher A. Hart, Vice Chairman, National Transportation Safety Board; PRB Chair

The Honorable Earl F. Weener, Member, National Transportation Safety Board

David K. Tochen, General Counsel, National Transportation Safety Board

Florence Carr, Deputy Managing Director, Federal Maritime Commission

Dr. John Cavolowsky, Director, Airspace Systems Program Office, Aeronautics Research Mission Directorate, National Aeronautics and Space Administration

David L. Mayer, Managing Director, National Transportation Safety Board (substitute only for Mr. Tochen's rating review)

Sarah Bonilla, Deputy Chief Human Capital Officer, Department of Energy (Alternate)

Jerold Gidner, Deputy Director, Office of Strategic Employee and Organizational Development, Department of the Interior (Alternate)

Dated: September 26, 2012.
Candi Bing,
Federal Register Coordinator.

[FR Doc. 2012-24168 Filed 10-1-12; 8:45 am]

BILLING CODE P